GENERAL SERVICES ADMINISTRATION

41 CFR Part 102-83

[Notice-MA-202012; Docket No. 2020-0002; Sequence No. 33]

Clarifying the Process for Meeting Federal Space Needs.

AGENCY: Office of Government-wide Policy (OGP), General Services Administration (GSA).

ACTION: Availability of GSA Bulletin FMR B-52, Clarifying the Process For Meeting Federal Space Needs.

SUMMARY: This Federal Management Regulation (FMR) bulletin clarifies certain terms and concepts, Location of Space, to reflect current laws, executive orders and Office of Management and Budget bulletins and management procedure memoranda, thereby bringing federal location policy into compliance with those governing authorities, until such time as a new regulation is issued.

DATES: Applicability Date: September 25, 2020.

FOR FURTHER INFORMATION CONTACT: For clarification of content, contact Mr. Chris Coneeney, Director, Real Property Policy Division, GSA, at 202-208-2956, or email realpropertypolicy@gsa.gov. Please cite Notice of FMR Bulletin B-52.

SUPPLEMENTARY INFORMATION:

Background: Federal agencies must give great weight to FMR part 102-83 when developing procedures for defining delineated areas and evaluating locations for Federal facilities, as these provisions synthesize numerous laws and executive orders. This part, however, has not undergone revision for well over a decade. The clarifications listed in the bulletin bring part 102-83 into alignment with current terminology and concepts, and aim to provide consistency when applying the existing regulations across Federal agencies and operational regions in advance of issuing new regulations. The bulletin also offers guidance on incorporating Executive Order 13946 into decisions regarding Federal property clarifies several terms and addresses consultation with local officials. This bulletin can be viewed at www.gsa.gov/reference/gsa-bulletins.

Jessica Salmoiraghi,
Associate Administrator, Office of Government-wide Policy.

[FR Doc. 2020-20846 Filed 9-24-20; 8:45 am]

BILLING CODE P